DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Union Pacific Railroad Company

(Docket Number FRA-1999-5755)

Union Pacific Railroad Company (UP) seeks a permanent waiver of compliance from certain provisions of the Power Brakes and Drawbars regulations, 49 CFR part 232, at Proviso Yard in Chicago, Illinois. Specifically, UP requests relief from the requirements of 49 CFR 232.12(i)(1), which requires that when a train airbrake system is tested from a yard test plant, the air source must be connected to the end of the train which will be nearest to the hauling road locomotive.

UP provides the following information to justify this request. At Proviso Yard, trains are regularly made up and depart from Yard Four. The tracks in Yard Four hold approximately 60 cars. Most trains consist of one hundred or more cars, which requires a double or triple over be made to make up an outbound train. The standard procedure is to fill one or more tracks with the head end portion and set the rear end portion as a rear end fill in an adjacent track. When this rear end fill is short (thirty cars or less), it presents an operational and safety problem. Yard air is at the extreme ends of Yard Four. If the rear fill is set at the end of the yard where hauling locomotives are attached, it requires the carman to either walk thirty car lengths or more to apply the end-of-train device (EOT) or cross several tracks with the EOT in order to install the device to the rear of the train. Either alternative presents both a safety factor for the carman and a time factor for completing the air test, since there are no access roads for the carmen to use.

Based on the above, UP believes that a permanent waiver permitting the yard air source to be applied to the rear end fill at Proviso's Yard Four would improve the safety and efficiency of operations without any adverse effect on safety.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-5755) and must be submitted to the Docket Clerk, DOT Docket Management Facility, Room PL-401 (Plaza Level), 400 7th Street, S.W., Washington, D.C. 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, DC on April 4, 2000.
Grady C. Cothen, Jr.
Deputy Associate Administrator for Safety Standards and Program Development.

[FR Doc. 00-8857 Filed 4-10-00; 8:45 am]

BILLING CODE 4910-06-P